DEPARTMENT OF TRANSPORTATION

Maritime Administration

[MARAD 2007 0016]

Information Collection Available for Public Comments and Recommendations

ACTION: Notice and request for comments.

SUMMARY: In accordance with the Paperwork Reduction Act of 1995, this notice announces the Maritime Administration's (MARAD) intention to request the Office of Management and Budget's (OMB) approval for a new information collection related to MARAD's marine transportation economic impact model data needs.

DATES: Comments should be submitted on or before February 4, 2008.

FOR FURTHER INFORMATION CONTACT: Wassel Mashagbeh, Maritime Administration, MAR-700, 1200 New Jersey Avenue, SE., Washington, DC 20590. Telephone: (202) 366-1715 or E-Mail: wassel.mashagbeh@dot.gov. Copies of this collection can also be obtained from that office.

SUPPLEMENTARY INFORMATION:

Title of Collection: MARAD's Marine Transportation Economic Impact Model Data Needs.

Type of Request: New Collection.

OMB Control Number: 2133-New.

Form Numbers: MA-1051, MA-1052.

Expiration Date of Approval: Three years from date of approval by the Office of Management and Budget.

Summary of Collection of Information: This collection will provide current marine transportation system operational data for MARAD's Marine Transportation Economic Impact Model that is not available through other means. The model uses information collected through surveys of the maritime operating areas to develop a profile of the industry. Since the last survey in 1999, significant increases in fuel, surface transportation, and security costs have occurred, as well as the introduction of new information and environmental technologies that have substantially affected marine transportation system operations.

Need and Use of the Information: MARAD's Marine Transportation Economic Impact Model is designed to explore and quantify the economic contribution of the nation's marine industry to our national economy, such as output, employment, and tax receipts. The information to be collected will provide the basis to calculate the impacts on other surface transportation modes (i.e., rail and truck) should marine transportation become unavailable in any given region. The last detailed collection of information occurred in 1999 during the development of the MARAD Port Kit. The agency is now proposing to update marine terminal and vessel operator cost information that has substantially changed since the last collection. Collecting up-to-date information is essential to ensure that the model accurately depicts the current economic environment of the U.S. maritime industry. No secondary sources of this information are readily available.

Description of Respondents: The target population for the survey will be approximately 100 U.S. vessel and marine terminal operating companies.

Annual Responses: 56.

Annual Burden: 17.5.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov.

Authority: 49 CFR 1.66.

By Order of the Maritime Administrator.
Dated: November 26, 2007.
Christine S. Gurland,
Acting Secretary, Maritime Administration.

[FR Doc. E7-23474 Filed 12-3-07; 8:45 am]

BILLING CODE 4910-81-P